FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/address | Date reissued
008904N | Port Jersey Shipping International Inc., 268 Seaview Avenue, Jersey City, NJ 07305 | July 1, 2010.
015941NF | Cargo Plus, Inc., 8333 Wessex Drive, Pennsauken, NJ 08109 | June 23, 2010.
019408N | C & L, USA, Inc. dba C&L Freight Srvs., 20 Broadhollow Road, Suite 1005, Melville, NY 11747 | July 17, 2010.
020821NF | Gold Coast Shipping, LLC, 2964 Main Street, Hartford, CT 06120 | June 11, 2010.
021246N | Around The World Shipping, Inc., 6726 Reseda Blvd., Suite A-10, Reseda, CA 91335 | July 7, 2010.

Sandra L. Kusumoto,
Director, Bureau of Certification and Licensing.

[FR Doc. 2010-20483 Filed 8-17-10; 8:45 am]

BILLING CODE P